DEPARTMENT OF ENERGY

Federal Energy Regulatory Commission

Combined Notice of Filings #1

Take notice that the Commission received the following electric rate filings:

Docket Numbers: ER15-158-001.

Applicants: Southwest Power Pool, Inc.

Description: eTariff filing per 35.19a(b): 1765R11 KCPL-GMO Refund Report to be effective N/A under ER15-158.

Filed Date: 3/12/15.

Accession Number: 20150312-5059.

Comments Due: 5 p.m. ET 4/2/15.

Docket Numbers: ER15-164-001.

Applicants: Southwest Power Pool, Inc.

Description: eTariff filing per 35.19a(b): 1636R13 Kansas Electric Power Cooperative, Inc. Refund Report to be effective N/A.

Filed Date: 3/12/15.

Accession Number: 20150312-5065.

Comments Due: 5 p.m. ET 4/2/15.

Docket Numbers: ER15-350-001.

Applicants: Southwest Power Pool, Inc.

Description: eTariff filing per 35.19a(b): 1883R3 Westar (City of Alma) Refund Report to be effective N/A.

Filed Date: 3/12/15.

Accession Number: 20150312-5066.

Comments Due: 5 p.m. ET 4/2/15.

Docket Numbers: ER15-820-001.

Applicants: Zone One Energy, LLC.

Description: Tariff Amendment per 35.17(b): Baseline New to be effective 4/15/2015.

Filed Date: 3/11/15.

Accession Number: 20150311-5010.

Comments Due: 5 p.m. ET 4/1/15.

Docket Numbers: ER15-883-001.

Applicants: Southern California Edison Company.

Description: Tariff Amendment per 35.17(b): Amendment to GIA and Distrib Serv Agmt San Gorgonio Weswinds II, Difwind Farms to be effective 1/20/2015.

Filed Date: 3/12/15.

Accession Number: 20150312-5083.

Comments Due: 5 p.m. ET 4/2/15.

Docket Numbers: ER15-900-001.

Applicants: Marshfield Utilities.

Description: Tariff Amendment per 35.17(b): Amendment to 1 to be effective 4/1/2015.

Filed Date: 3/12/15.

Accession Number: 20150312-5110.

Comments Due: 5 p.m. ET 4/2/15.

Docket Numbers: ER15-1219-000.

Applicants: Arizona Public Service Company.

Description: § 205(d) rate filing per 35.13(a)(2)(iii): Service Agreement Nos. 190, 192, 194, 195 Revisions—ANPP to be effective 3/11/2015.

Filed Date: 3/11/15.

Accession Number: 20150311-5179.

Comments Due: 5 p.m. ET 4/1/15.

Docket Numbers: ER15-1222-000.

Applicants: Southern California Edison Company.

Description: § 205(d) rate filing per 35.13(a)(2)(iii): Unexecuted GIA and Distribution Service Agreement with Edom Hills Project 1, LLC to be effective 3/15/2015.

Filed Date: 3/11/15.

Accession Number: 20150311-5216.

Comments Due: 5 p.m. ET 4/1/15.

Docket Numbers: ER15-1223-000.

Applicants: Power Contract Financing II, Inc.

Description: Tariff Withdrawal per 35.15: Notice of Cancellation to be effective 3/12/2015.

Filed Date: 3/11/15.

Accession Number: 20150311-5258.

Comments Due: 5 p.m. ET 4/1/15.

Docket Numbers: ER15-1224-000.

Applicants: New York State Electric & Gas Corporation.

Description: § 205(d) rate filing per 35.13(a)(2)(iii): Concurrence in Amended and Restated LGIA among NYISO, NYSEG and Sheldon Energy to be effective 2/18/2015.

Filed Date: 3/11/15.

Accession Number: 20150311-5284.

Comments Due: 5 p.m. ET 4/1/15.

Docket Numbers: ER15-1225-000.

Applicants: Southwest Power Pool, Inc.

Description: § 205(d) rate filing per 35.13(a)(2)(iii): Updates to Section 2.2.2 of Attachment C to be effective 5/10/2015.

Filed Date: 3/11/15.

Accession Number: 20150311-5287.

Comments Due: 5 p.m. ET 4/1/15.

Docket Numbers: ER15-1226-000.

Applicants: CenterPoint Energy Houston Electric, LLC.

Description: § 205(d) rate filing per 35.13(a)(1): TFO Tariff Interim Rate Revision to Conform with PUCT-Approved ERCOT Rate to be effective 2/25/2015.

Filed Date: 3/11/15.

Accession Number: 20150311-5289.

Comments Due: 5 p.m. ET 4/1/15.

Docket Numbers: ER15-1227-000.

Applicants: California Clean Power Corp.

Description: Initial rate filing per 35.12 California Clean Power Corp. Market-Based Rate Tariff to be effective 4/20/2015.

Filed Date: 3/11/15.

Accession Number: 20150311-5290.

Comments Due: 5 p.m. ET 4/1/15.

Docket Numbers: ER15-1228-000.

Applicants: Southwest Power Pool, Inc.

Description: § 205(d) rate filing per 35.13(a)(2)(iii): 1670R2 Transmission Interchange Agreement to be effective 2/23/2015.

Filed Date: 3/12/15.

Accession Number: 20150312-5058.

Comments Due: 5 p.m. ET 4/2/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 12, 2015.
Nathaniel J. Davis, Sr.,
Deputy Secretary.

[FR Doc. 2015-06165 Filed 3-17-15; 8:45 am]

BILLING CODE 6717-01-P